DEPARTMENT OF ENERGY

Federal Energy Regulatory Commission

[Docket No. RP04-12-001]

Florida Gas Transmission Company; Notice of Compliance Filing

November 28, 2003.

Take notice that on November 25, 2003, Florida Gas Transmission Company (“FGT”) tendered for filing to become part of its FERC Gas Tariff, Third Revised Volume No. 1, the following tariff sheets effective November 1, 2003:

Substitute Third Revised Sheet No. 14

Substitute First Revised Sheet No. 22H

Substitute Fourth Revised Sheet No. 59

FGT states that on October 1, 2003, FGT filed in Docket No. RP04-12-000 a Section 4 Rate Case including revised tariff sheets with a proposed effective date of November 1, 2003. Such tariff sheets included a proposal to provide for partial reservation charge credits, based on the return on equity and related income tax components, in all situations where FGT is unable to fulfill its firm obligations. FGT states that by order dated October 31, 2003 (Order), the Commission, among other things, determined that partial reservation credits were appropriate only in force majeure situations and directed FGT to file within 30 days thereof revised tariff sheets to be effective November 1, 2003.

FGT states that pursuant to the Order, the tariff sheets attached hereto contain revisions that provide for partial reservation charge credits only in force majeure situations.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Linda Mitry,
Acting Secretary.

[FR Doc. E3-00455 Filed 12-3-03; 8:45 am]

BILLING CODE 6717-01-P